DEPARTMENT OF COMMERCE

International Trade Administration

[A-588-862]

Notice of Antidumping Duty Order: High and Ultra-High Voltage Ceramic Station Post Insulators from Japan

AGENCY: Import Administration, International Trade Administration, Department of Commerce.

ACTION: Notice of Antidumping Duty Order.

EFFECTIVE DATE: December 30, 2003.

FOR FURTHER INFORMATION CONTACT: Timothy Finn at (202) 482-0065 or Michele Mire at (202) 482-4711, AD/CVD Enforcement, Office 4, Group II, Import Administration, International Trade Administration, U.S. Department of Commerce, 14th Street and Constitution Avenue, NW, Washington, DC 20230.

SUPPLEMENTARY INFORMATION:

Scope of the Order

The scope of this order covers station post insulators manufactured of porcelain, of standard strength, high strength,¹ or extra-high strength, solid core or cavity core, single unit or stacked unit, assembled or unassembled, and with or without hardware attached, rated at 115 kilovolts (kV) voltage class and above (550 kV Basic Impulse Insulation Level and above), including, but not limited to, those manufactured to meet the following American National Standards Institute, Inc. standard class specifications: T.R.-286, T.R.-287, T.R.-288, T.R.-289, T.R.-291, T.R.-295, T.R.-304, T.R.-308, T.R.-312, T.R.-316, T.R.-362 and T.R.-391. Subject merchandise is classifiable under subheading 8546.20.0060 of the Harmonized Tariff Schedule of the United States (HTSUS). While the HTSUS subheading is provided for convenience and customs purposes, the written description above remains dispositive as to the scope of this order.

¹ Station post insulators are manufactured in various styles and sizes, and are classified primarily according to the voltage they are designed to withstand. Under the governing industry standard issued by the Institute of Electrical and Electronic Engineers, the voltage spectrum is divided into three broad classes: “medium” voltage (i.e., less than or equal to 69 kilovolts), “high” voltage (i.e., from 115 to 230 kilovolts), and “extra-high” or “ultra-high” voltage (i.e., greater than 230 kilovolts).

Antidumping Duty Order

On November 5, 2003, in accordance with sections 735(d) and 777(i)(1) of the Tariff Act of 1930, as amended (the Act), the Department of Commerce (the Department) published its final determination that high and ultra-high voltage ceramic station post insulators (HVSPs) from Japan are being, or are likely to be, sold in the United States at less than fair value (LTFV). See Notice of Final Determination of Sales at Less Than Fair Value: High and Ultra-High Voltage Ceramic Station Post Insulators from Japan (68 FR 62560). On December 19, 2003, in accordance with section 735(d) of the Act, the U.S. International Trade Commission (the ITC) notified the Department of its final determination that an industry in the United States is materially injured by reason of LTFV imports of subject merchandise from Japan.

Therefore, in accordance with section 736(a)(1) of the Act, the Department will direct U.S. Customs and Border Protection (CBP) to assess, upon further advice by the Department, antidumping duties equal to the amount by which the normal value of the merchandise exceeds the U.S. price of the merchandise for all relevant entries of HVSPs from Japan. These antidumping duties will be assessed on all unliquidated entries of HVSPs that are entered, or withdrawn from warehouse, for consumption on or after June 16, 2003, the date on which the Department published its notice of an affirmative preliminary determination in the Federal Register. See Notice of Preliminary Determination of Sales at Less Than Fair Value: High and Ultra-High Voltage Ceramic Station Post Insulators from Japan (68 FR 35627). CBP must require, at the same time as importers would normally deposit estimated duties on this merchandise, a cash deposit equal to the estimated weighted-average antidumping duty margins listed below. The weighted-average percentage dumping margins are as follows:

Manufacturer/Exporter | Weighted-Average Percent Margin
NGK Insulators Ltd. | 105.80
All Others | 105.80

This notice constitutes the antidumping duty order with respect to HVSPs from Japan. Interested parties may contact the Department's Central Records Unit, room B-099 of the main Commerce building, for copies of an updated list of antidumping duty orders currently in effect.

This order is issued and published in accordance with section 736(a) of the Act and 19 C.F.R. § 351.211.

Dated: December 22, 2003.
Holly A. Kuga,
Acting Assistant Secretary for Import Administration.

[FR Doc. 03-32068 Filed 12-29-03; 8:45 am]

BILLING CODE 3510-DS-S